SMALL BUSINESS ADMINISTRATION

[Disaster Declaration # 12279 and # 12280]

Iowa Disaster Number IA-00024

AGENCY: U.S. Small Business Administration.

ACTION: Amendment 5.

SUMMARY: This is an amendment of the Presidential declaration of a major disaster for the State of Iowa (FEMA—1930—DR), dated 08/14/2010.

Incident: Severe storms, flooding, and tornadoes.

Incident Period: 06/01/2010 through 08/31/2010.

Effective Date: 10/13/2010.

Physical Loan Application Deadline Date: 11/12/2010.

EIDL Loan Application Deadline Date: 05/16/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of IOWA, dated 08/14/2010 is hereby amended to extend the deadline for filing applications for physical damages as a result of this disaster to 11/12/2010.

All other information in the original declaration remains unchanged.

(Catalog of Federal Domestic Assistance Numbers 59002 and 59008)

James E. Rivera,
Associate Administrator for Disaster Assistance.

[FR Doc. 2010-26781 Filed 10-21-10; 8:45 am]

BILLING CODE 8025-01-P